DEPARTMENT OF THE INTERIOR

National Park Service

[NPS-NER-GETT-12380; PPMPSPD1Z.YM0000; PPNEGETTS1]

Gettysburg National Military Park Advisory Commission Meetings (FY2013)

AGENCY: National Park Service, Interior.

ACTION: Notice of upcoming scheduled meetings.

SUMMARY: This notice announces a schedule of upcoming meetings for the Gettysburg National Military Park Advisory Commission.

DATES: The meetings are scheduled for April 25, 2013, and September 5, 2013.

Time: All scheduled meetings will begin at 7:00 p.m. and end at 9:00 p.m.

ADDRESSES: All scheduled meetings will be held at the Gettysburg National Military Park, Ford Education Center, 1195 Baltimore Pike, Gettysburg, Pennsylvania 17325.

Call (717) 334-1124 or visit online at http://www.nps.gov/gett for additional information on this facility.

FOR FURTHER INFORMATION CONTACT: Bob Kirby, DFO, Gettysburg National Military Park, 1195 Baltimore Pike, Gettysburg, Pennsylvania 17325 or phone (717) 334-1124.

SUPPLEMENTARY INFORMATION: The scheduled meetings will be open to the public. Each scheduled meeting will result in presentations on the Gettysburg National Military Park Operational Update and the Sesquicentennial Events. The April 25, 2013, meeting will also have the nomination of new officers. Any member of the public may file with the Committee a written statement with issues or concerns. Before including your address, telephone number, email address, or other personal identifying information in your comments, you should be aware that your entire comment—including your personal identifying information—may be made publicly available at any time. While you can ask us in your comment to withhold your personal identifying information from public view, we cannot guarantee that we will be able to do so. The issues or concerns should be addressed to the Gettysburg National Military Park Advisory Commission, 1195 Baltimore Pike, Gettysburg, Pennsylvania 17325.

The Gettysburg National Military Park Advisory Commission was established by Public Law 101-377. Efforts have been made locally to ensure that the interested public is aware of the meeting dates.

Dated: February 28, 2013.
Bob Kirby,
DFO, Gettysburg National Military Park, Northeast Region.

[FR Doc. 2013-05179 Filed 3-5-13; 8:45 am]

BILLING CODE 4310-WV-P